DEPARTMENT OF JUSTICE

Drug Enforcement Administration

[Docket No. 25-24]

Hil Rizvi, M.D.; Decision and Order

On December 2, 2024, the Drug Enforcement Administration (DEA or Government) issued an Order to Show Cause (OSC) to Hil Rizvi, M.D., of Salt Lake City, Utah (Applicant). Request for Final Agency Action (RFAA), Exhibit (RFAAX) 2, at 1, 9. The OSC proposed the denial of Applicant's application for DEA registration, Control No. W24074770C, alleging that he materially falsified his application. Id. at 1 (citing 21 U.S.C. 824(a)(1)). Specifically, the OSC alleged that Applicant's application was materially false because he failed to disclose relevant information in response to Liability Questions 2 and 3.¹ Id. at 1, 4-6; RFAA, at 4.

¹ The Government further alleged that granting Applicant's application would be outside the public interest because during DEA's investigation Applicant demonstrated a lack of candor, which threatened the public health and safety. RFAAX 2, at 1, 7-8 (citing 21 U.S.C. 823(g)(1)(E)); RFAA, at 5. However, due to the Agency's finding that Applicant submitted a materially false application, which serves as an independent basis for sanction under 21 U.S.C. 824(a)(1), the Agency need not make a finding on the public interest allegation. Even without being a basis for denial, Applicant's lack of candor is relevant to the Agency's determination of an appropriate sanction. See infra Section IV.

On February 25, 2025, the Government submitted a RFAA requesting that the Agency issue a default final order denying Applicant's application for registration. RFAA, at 1, 4-5. After carefully reviewing the entire record and conducting the analysis as set forth in detail below, the Agency grants the Government's request for final agency action and denies Applicant's application for registration. As a preliminary matter, this Decision addresses whether or not Applicant is in default and finds that he is. Next, this Decision considers whether Applicant submitted a materially false application for registration and finds that he did. Lastly, this Decision determines that the appropriate sanction is denial of Applicant's materially false application.

I. Default Determination

Under 21 CFR 1301.43, a registrant or applicant entitled to a hearing who fails to file a timely hearing request “within 30 days after the date of receipt of the [OSC] . . . shall be deemed to have waived their right to a hearing and to be in default” unless “good cause” is established for the failure. 21 CFR 1301.43(a), (c)(1). In the absence of a demonstration of good cause, a registrant or applicant who fails to timely file an answer also is “deemed to have waived their right to a hearing and to be in default.” 21 CFR 1301.43(c)(2).

The OSC notified Applicant of his deadline to file a written request for hearing and answer, and that if he failed to file such a request and answer, he would be deemed to have waived his right to a hearing and be in default.² RFAAX 2, at 8 (citing 21 CFR 1301.43). Applicant filed a hearing request and the matter was assigned to Administrative Law Judge (ALJ) Teresa Wallbaum. RFAA, at 2; RFAAX 4, at 1-2. During prehearing proceedings, the ALJ concluded that Applicant's hearing request was untimely, that he failed to demonstrate good cause to excuse the untimely filing, that he failed to file an adequate or timely answer, and that he failed to demonstrate good cause to excuse the untimeliness or inadequacy of his answer. RFAA, at 2-3; RFAAX 4, at 4-9. Accordingly, the ALJ found Applicant in default and terminated the proceedings. RFAA, at 3-4; RFAAX 4, at 9. The Agency finds that the ALJ did not err in finding Applicant to be in default.

² Based on the Government's submissions in its RFAA dated February 25, 2025, the Agency finds that service of the OSC on Applicant was adequate. Specifically, the Declaration from a DEA Diversion Investigator (DI) indicates that on December 16, 2024, DI emailed a copy of the OSC to Applicant after mailed copies were returned as undeliverable. RFAAX 3. During prehearing proceedings, Applicant confirmed that he received the emailed OSC on December 17, 2025, which the Agency construes as a typographical error and that Applicant intended to indicate he received the OSC on December 17, 2024. RFAAX 4, at 5. Therefore, due process notice requirements have been satisfied.

“A default, unless excused, shall be deemed to constitute a waiver of the [applicant's] right to a hearing and an admission of the factual allegations of the [OSC].” 21 CFR 1301.43(e). Because Applicant is in default, the Agency finds that Applicant has admitted to the factual allegations in the OSC. 21 CFR 1301.43(c)(1), (e), (f)(1).

Further, “[i]n the event that [an applicant] . . . is deemed to be in default . . . DEA may then file a request for final agency action with the Administrator, along with a record to support its request. In such circumstances, the Administrator may enter a default final order pursuant to [21 CFR] 1316.67.” 21 CFR 1301.43(f)(1). Here, the Government has requested final agency action based on Applicant's default pursuant to 21 CFR 1301.43(c), (f), and 1301.46. RFAA, at 3-5; see also 21 CFR 1316.67.

II. Findings of Fact

The Agency finds that, in light of Applicant's default, the factual allegations in the OSC are deemed admitted. 21 CFR 1301.43(e). Accordingly, Applicant is deemed to have admitted to each of the following facts.³ On June 11, 2024, he applied for DEA registration as a practitioner in Schedules II through V with a registered address in Salt Lake City, Utah.⁴ RFAAX 2, at 4; RFAAX 1, at 1. This application was assigned Control No. W24074770C. Id. An application for DEA registration includes liability questions, which an applicant must answer either affirmatively or negatively. Id.

³ According to the Controlled Substances Act (CSA), “[f]indings of fact by the [DEA Administrator], if supported by substantial evidence, shall be conclusive.” 21 U.S.C. 877. Here, where Applicant is found to be in default, all the factual allegations in the OSC are deemed to be admitted. These uncontested and deemed admitted facts constitute evidence that exceeds the “substantial evidence” standard of 21 U.S.C. 877; it is unrebutted evidence.

⁴ The OSC alleges that Applicant applied for a registration in Wisconsin. RFAAX 2, at 4. Agency records reflect that Applicant transferred this application to Utah. RFAAX 1, at 1; RFAAX 2, at 1.

Liability Question 2

Liability Question 2 asks, “Has the applicant ever surrendered (for cause) or had a federal controlled substances registration revoked, suspended, restricted, or denied, or is any such action pending?” RFAAX 2, at 4. If the applicant answers affirmatively, he or she must provide additional information about the date, location, nature, and result of the incident that is being referenced. Id.; RFAAX 1, at 1.

On December 21, 2020, Applicant's prior DEA registration, No. BR4988599, was revoked. RFAAX 2, at 3, 5; RFAAX 1, at 1; see also Hil Rizvi, M.D., 85 FR 73804, 73804-06 (2020) (Agency final order revoking Applicant's DEA registration based on lack of state authority in Pennsylvania). Thereafter, on his June 2024 application for DEA registration, Applicant provided an affirmative answer to Liability Question 2. RFAAX 2, at 4; RFAAX 1, at 1. He identified the incident date as May 1, 2020, and the incident location as “Tyrone PA.” Id. For incident nature, he disclosed: “Pennsylvania medical license revoked by reciprocal action from Maine license denial.” Id. For incident result, he disclosed: “Change of address submitted to DEA to maintain old registration BR4988599 for another state NH, overlooked by DEA registration staff Senator John Hoeven North Dakota has confirmed DEA failed to update a change of address. DEA registration and Pennsylvania medical license are separate registration. Maine denial affected Ohio Pennsylvania eventually all licenses. This applicant never practiced in Maine.” Id.

Applicant's follow-up narrative in response to Liability Question 2 did not disclose that on December 21, 2020, his prior DEA registration was revoked. RFAAX 2, at 3, 5; RFAAX 1, at 1; see also Hil Rizvi, M.D., 85 FR at 73804-06.

Liability Question 3

Liability Question 3 asks, “Has the applicant ever surrendered (for cause) or had a state professional license or controlled substance registration revoked, suspended, denied, restricted, or placed on probation, or is any such action pending?” RFAAX 2, at 4.

On his June 2024 application for DEA registration, Applicant provided an affirmative answer to Liability Question 3. Id.; RFAAX 1, at 1. He identified the incident date as May 1, 2020, and the incident location as “Tyrone PA.” Id. For incident nature, he disclosed: “Penn physician license revocation, with DEA registration also revoked.” Id. For incident result, he disclosed: “Maine physician license denial 2014, led to all medical licenses affected. This matter has been evaluated by a Penn board consultant Dr James Cornish (and law professor Dr C Wm Hinnant MD JD). It has been determined, there is no clinical liability from the Maine license denial. Commonwealth Pennsylvania Judge Mary Hanna Leavitt has written an opinion, the Pennsylvania license revocation secondary to Maine denial, is an abuse of authority by the Pennsylvania licensing Board of Medicine. A copy of this opinion is available, Dr Cornish fitforduty report is available.” Id.

His follow-up narratives in response to Liability Question 3 did not disclose the following events:

(a) Vermont. On September 2, 1999, the Vermont Board of Medical Practice summarily suspended his license to practice medicine in Vermont after having found that he took the U.S. Medical Licensing Examination 3 (USMLE 3) three times before obtaining a passing score and thereby failed to meet the qualifications for medical licensure in Vermont. RFAAX 2, at 5.

(b) West Virginia. On August 17, 1999, his West Virginia medical license was revoked and immediately stayed for a period of five years with probation, based on his failure to provide complete and accurate information on a licensure application in Ohio and for having represented himself as a resident physician when he was no longer participating in a training program. RFAAX 2, at 5. On March 12, 2001, the West Virginia Board of Medicine restored his license to full and unrestricted status. Id. His West Virginia medical license subsequently expired on June 30, 2013. Id.

(c) New Hampshire. On January 13, 2021, Applicant's New Hampshire license to practice medicine was revoked because of the issues reported by the Pennsylvania State Board of Medicine, including that his license to practice medicine was refused by the Maine Board of Licensure in Medicine and that his license to practice medicine had been revoked by the Medical Board of Ohio. RFAAX 2, at 6.

(d) New Mexico. On May 10, 2023, Applicant's application to practice as a medical doctor in New Mexico was denied because of his extensive history of adverse licensure actions in multiple jurisdictions based on, but not limited to, his failure to disclose information, dishonesty in applications, unprofessional conduct, and non-compliance with other state Board Orders concerning practice monitoring and recommendations. RFAAX 2, at 6.

(e) Oklahoma. On September 14, 2023, based on findings of misconduct from other state boards, the Oklahoma State Board of Medical Licensure and Supervision denied Applicant's application for full medical licensure in Oklahoma. RFAAX 2, at 6.

III. Discussion

A DEA registration may be denied, suspended, or revoked upon a finding that the applicant or registrant materially falsified any application filed pursuant to or required by the Controlled Substances Act (CSA). 21 U.S.C. 824(a)(1).⁵ To present a prima facie case for material falsification, the Government's record evidence must show (1) the submission of an application, (2) containing a false statement and/or omitting information that the application requires, (3) when the submitter knew or should have known that the statement is false and/or that the omitted information existed and the application required its disclosure, and (4) the false statement and/or required but omitted information is material, that is, it “connect[s] to at least one of [the section 823] factors that, according to the CSA, [the Administrator] `shall' consider” when analyzing “whether issuing a registration `would be inconsistent with the public interest.' ” Frank Joseph Stirlacci, M.D., 85 FR 45229, 45238 (2020) (citing 21 U.S.C. 823 and Kungys, 485 U.S. at 771). The Government must establish material falsification with record evidence that is clear, unequivocal, and convincing. Kungys, 485 U.S. at 772; Stirlacci, 85 FR at 45230-39.

⁵ A statutory basis to deny an application pursuant to section 823 is also a basis to revoke or suspend a registration pursuant to section 824, and vice versa, because doing “otherwise would mean that all applications would have to be granted only to be revoked the next day . . . .” Robert Wayne Locklear, M.D., 86 FR 33738, 33744-45 (2021) (collecting cases).

The Supreme Court's decision in Kungys v. United States, 485 U.S. 759 (1988), and its progeny, guide the Agency's implementation of these CSA provisions.

First, the Government must prove that the applicant or registrant submitted an application for registration pursuant to the CSA. 21 U.S.C. 824(a)(1); see also 21 U.S.C. 822 (persons required to register); 21 U.S.C. 823(g)(1) (registration requirements).

Second, the Government must prove that the application contained a false statement or omitted information that the application required, either of which may constitute a material falsity. See, e.g., Emed Medical Company LLC and Med Assist Pharmacy, 88 FR 21719, 21720 (2023) (applicant falsely answered “no” to Liability Question 3 on seventeen applications when the true answer was “yes”); Richard J. Settles, D.O., 81 FR 64940, 64945-46 (2016) (applicant failed to disclose an interim consent agreement restricting his license based on findings that he issued controlled substance prescriptions without federal or state legal authority to do so). In making this assessment, the Agency will examine the entire application, including registrant's “yes/no” answers to the liability questions and any follow-up response(s). Daniel A. Glick, D.D.S., 80 FR 74800, 74802, 74,808-09 (2015). To establish an omission, the Government must show both that omitted information existed and that the application required inclusion of that information. See, e.g., Richard A. Herbert, M.D., 76 FR 53942, 53956 (2011) (omission of a probation which the application required to be identified); Michel P. Toret, M.D., 82 FR 60041, 60042 (2017) (Voluntary Surrender Form alone is insufficient evidence to find material falsification based on registrant's “no” answer to the question regarding “surrender[s] (for cause)”).

Third, the Government must prove that the applicant or registrant knew or should have known that the statement is false and/or that the omitted information existed and the application required its disclosure. See John J. Cienki, M.D., 63 FR 52293, 52295 (1998) (“[I]n finding that there has been a material falsification of an application, it must be determined that the applicant knew or should have known that the response given to the liability question was false.”); Samuel Arnold, D.D.S., 63 FR 8687, 8688 (1998) (“It is also undisputed that Respondent knew that his Ohio dental license had previously been suspended.”); Bobby Watts, M.D., 58 FR 46995, 46995 (1993) (“Respondent knew that the Tennessee Board of Medical Examiners had suspended his medical license on May 7, 1987, and had placed his state medical license on probation on May 2, 1988.”); see also Stirlacci, 85 FR at 45236-37 & nn. 22-23 (collecting cases).

Fourth, the Government must prove that the false statement and/or required but omitted information is “material.” Kungys holds that a statement is material if it is “predictably capable of affecting, i.e., had a natural tendency to affect, the [Agency's] official decision,” or stated differently, “had a natural tendency to influence the decision.” Kungys, 485 U.S. at 771-72. As already discussed, materiality, for the purposes of the CSA, is tied to the factors that the Administrator “shall” consider when determining whether issuance of a registration “would be inconsistent with the public interest.” ⁶ 21 U.S.C. 823; Kungys, 485 U.S. at 771-72; Stirlacci, 85 FR at 45234, 45238.

⁶ Because the bases for revocation listed in 21 U.S.C. 824 may also serve as bases to deny an application, see supra n.5, a finding of materiality may also be tied to 21 U.S.C. 824(a)(1)-(5).

The Government has the burden of proof in this proceeding. 21 CFR 1301.44. Here, the Agency finds that the Government's record evidence presents a prima facie case that Applicant submitted a materially false application. 21 U.S.C. 823, 824(a)(1).

Applicant truthfully answered Liability Questions 2 and 3 in the affirmative. RFAA, at 1, 4; RFAAX 2, at 4-5. The Government alleges, however, that Applicant's follow-up narratives in response to his affirmative answers are materially false because they failed to disclose relevant, required information. RFAA, at 1; RFAAX 2, at 5-6. Having read and analyzed all the record evidence, Applicant is deemed to have admitted and the Agency finds clear, unequivocal, and convincing record evidence that Applicant's narrative response to Liability Question 3 omitted relevant, required information, that these omissions constitute falsities, and that these falsities are material. 21 U.S.C. 824(a)(1); 21 CFR 1301.43(e); Kungys, 485 U.S. at 771-72; Herbert, 76 FR at 53956.

Liability Question 2

The Agency finds the following based on clear, unequivocal, and convincing record evidence, and Applicant is deemed to have admitted to the same. Liability Question 2 asks whether the applicant has ever had a federal controlled substance registration revoked, suspended, restricted, or denied. RFAAX 2, at 4. When Applicant truthfully answered “yes” to this question, he was required to provide additional details concerning the date, location, nature, and result of the incident or incidents that prompted the affirmative answer. Id.

In his follow-up narrative to Liability Question 2, Applicant's response focused on his various state licenses and applications, and a previous request to change his registered address with DEA. Id.; RFAAX 1, at 1. Applicant's follow-up narrative to Liability Question 2 did not clearly state that his previous DEA registration was revoked, but Applicant, by answering “yes,” had already admitted that he had a DEA registration revoked, suspended, restricted, or denied. Id. Then, in his follow-up response to Liability Question 3, Applicant clearly stated: “Penn physician license revocation, with DEA registration also revoked.” Id. (emphasis added). Applicant's disclosure notified DEA that he had a previous DEA registration revoked and that it was related to losing his medical license in Pennsylvania. Id. Thus, the application contained a truthful and accurate disclosure.⁷ See RFAAX 1, at 1; RFAAX 2, at 4; Rizvi, 85 FR at 73804-06. The Government has provided no argument or legal authority that more detail is required. Even though the information was provided most clearly in response to the liability question asking about state licensure, the Agency is required to look at the entire application. Glick, 80 FR at 74808-09.

⁷ Even if the Agency were to find that the lack of clarity in Applicant's narrative response to Liability Question 2 constituted a falsification by omitting information that the application required, the falsity would not have been material. Applicant went on to explicitly include the allegedly omitted information in response to the next question on the application. RFAAX 1, at 1; RFAAX 2, at 4. Accordingly, Applicant provided the Agency all the information it needed to conduct the required analysis under 21 U.S.C. 823(g)(1) and 21 U.S.C. 824 such that any omission in Liability Question 2 could not be “predictably capable of affecting . . . the [Agency's] official decision.” Kungys, 485 U.S. at 771-72.

In sum, the Government has not established by clear, unequivocal, and convincing record evidence that Applicant failed to disclose on his application that he had a previous DEA registration revoked. Thus, the Government has not established a prima facie case that Applicant's response to Liability Question 2 was materially false.

Liability Question 3

The Agency finds the following based on clear, unequivocal, and convincing record evidence, and Applicant is deemed to have admitted to the same. Liability Question 3 asks whether the applicant has ever had any adverse action taken against a state professional or controlled substance license, to include surrender for cause, revocation, suspension, denial, restriction, or probation. RFAAX 2, at 4. When Applicant truthfully answered “yes” to this question, he was required to provide additional details concerning the date, location, nature, and result of the incident or incidents that prompted the affirmative answer. Id. In his follow-up narrative to Liability Question 3, Applicant disclosed that his Pennsylvania medical license had been revoked and his application for medical licensure in Maine had been denied. Id.; RFAAX 1, at 1. In his follow-up response to Liability Question 2, Applicant disclosed that the denial of his application in Maine “affected Ohio.” RFAAX 2, at 4; RFAAX 1, at 1.

Applicant, however, omitted additional relevant information responsive to Liability Question 3, namely that his West Virginia medical license was revoked and placed on probation in 1999; his Vermont medical license was suspended in 1999; his New Hampshire medical license was revoked in 2021; his application for medical licensure in Oklahoma was denied in 2023; and his application for medical licensure in New Mexico was denied in 2023.⁸ RFAAX 2, at 5-6; RFAAX 1, at 1-2.

⁸ The OSC further alleged that Applicant failed to disclose a “Stipulation and Order” issued by the Utah Division of Professional Licensing; denial of his application for medical licensure in Maine; and revocation of his medical license in Ohio. RFAAX 2, at 6.

Regarding the Utah allegation, the OSC does not indicate whether the “Stipulation and Order” involved any of the adverse actions listed in Liability Question 3, namely surrender for cause, revocation, suspension, denial, restriction, or probation. Id. Thus, the factual record is insufficient to determine whether Applicant was obligated to disclose this information in response to Liability Question 3.

Regarding the Maine allegation, Applicant wrote in his follow-up narrative: “Maine physician license denial 2014.” RFAAX 2, at 4; RFAAX 1, at 1. Thus, this allegation is not sustained, because the record evidence shows that Applicant did, in fact, disclose the denial of an application in Maine.

Regarding the Ohio allegation, Applicant disclosed in his follow-up narrative to Liability Question 2 that denial of his application in Maine “affected Ohio.” RFAAX 2, at 4; RFAAX 1, at 1. This response informed DEA of an adverse action against him in Ohio and the Government has not provided any authority to support the proposition that the application required more detailed information than this. Thus, Applicant did not provide a false answer with respect to the adverse action against his Ohio license. Further, even if the Agency were to find this response to be false, it would not be material. See supra n.7.

Applicant's failure to disclose that he had prior adverse actions against state licenses, to include revocation, probation, and denial, constitutes a falsity.⁹ Pamela Monterosso, D.M.D., 73 FR 11146, 11147-48 (2008). The application clearly requested additional information concerning the nature and result of each of the incidents which prompted a “yes” answer to Liability Question 3. RFAAX 2, at 4. Applicant knew or should have known that the actions against his West Virginia license, his Vermont license, his New Hampshire license, his Oklahoma application, and his New Mexico application existed and that the DEA application required their disclosure. Id. at 3-6. Indeed, Applicant clearly understood that the DEA application requested this information, because he did, in fact, disclose some actions against licenses in other states. Id. Although Applicant answered “yes” to Liability Question 3, he failed to identify in the follow-up response the revocation of his West Virginia and New Hampshire licenses, the suspension of his Vermont license, and the denial of his Oklahoma and New Mexico applications. Id. Failing to identify these adverse actions constitutes a falsity as to each omission.

⁹ Applicant's response to Liability Question 2 refers to “all licenses” and his response to Liability Question 3 refers to “all medical licenses affected.” RFAAX 2, at 4; RFAAX 1, at 1. These vague statements, however, do not disclose the adverse actions that Applicant was required to disclose in response to Liability Question 3, and do not change the Agency's finding that Applicant omitted relevant information and that such omissions were materially false.

Furthermore, these falsities are material. Liability Question 3 is intended to obtain information relevant to conduct the analysis required by 21 U.S.C. 823 and 824. Specifically, 21 U.S.C. 823(g)(1) directs the Administrator ¹⁰ to consider whether the applicant is “authorized to dispense . . . controlled substances under the laws of the State in which he practices,” and to determine whether registration “would be inconsistent with the public interest.” 21 U.S.C. 823(g)(1). Further, the public interest factors require the Administrator to consider the recommendation of state licensing boards, the applicant's experience in handling controlled substances, the applicant's compliance with state laws related to controlled substances, and other conduct which may threaten public safety. 21 U.S.C. 823(g)(1)(A), (B), (D), (E). Additionally, 21 U.S.C. 824(a)(3) and (4) require the Administrator to consider whether the applicant has had a state license or registration suspended, revoked, or denied by state authority, and whether the applicant has committed acts inconsistent with the public interest. Liability Question 3, in other words, is tethered to provisions which the Administrator is required by statute to consider when reviewing applications for registration. Stirlacci, 85 FR at 45238. Thus, a false answer to Liability Question 3 is material. Id.

¹⁰ The CSA vests authority in the Attorney General, who has delegated such authority under the CSA to the Administrator of DEA (the Agency). 21 U.S.C. 821, 823, 824; 28 CFR 0.100.

By omitting adverse actions against three state licenses and two state license applications, Applicant “deprived [DEA] of information potentially relevant to” the analysis that the Administrator is statutorily mandated to conduct. Stirlacci, 85 FR at 45234-35; 21 U.S.C. 823(g)(1), 824(a); RFAAX 2, at 5-6; RFAAX 1, at 1. Thus, omission of this information directly affected the public interest analysis that DEA was required to make when it reviewed his registration application. 21 U.S.C. 823(g)(1), 824(a); Stirlacci, 85 FR at 45238. Stated differently, the omissions were material because they were “predictably capable of affecting . . . [DEA's] official decision” regarding whether Applicant met “the requirements for” registration.¹¹ Kungys, 485 U.S. at 771.

¹¹ The fact that Applicant truthfully disclosed some state adverse actions does not negate a finding of materiality regarding the omitted state actions. See, e.g., Settles, 81 FR at 64945-46 (applicant disclosed state probation but failed to disclose a subsequent state order alleging that he violated the probation); Jose G. Zavaleta, M.D., 78 FR 27431, 27439 (2013) (applicant disclosed surrender of registration but failed to disclose state suspension); Herbert, 76 FR at 53956-57 (disclosed one probation but not another); Harold Edward Smith, M.D., 76 FR 53961, 53963-64 (2011) (disclosed one board order but failed to disclose several others); Alvin Darby, M.D., 75 FR 26993, 26998-99 (2010) (disclosed surrender of registration but failed to disclose criminal conviction and state license probation); Monterosso, 73 FR at 11147-48 (disclosed one conviction but failed to disclose another).

In sum, the Agency finds clear, unequivocal, and convincing record evidence that Applicant's response to Liability Question 3 was materially false for failure to disclose revocation and probation of his medical license in West Virginia, suspension of his medical license in Vermont, revocation of his medical license in New Hampshire, and denial of his applications for medical licensure in Oklahoma and New Mexico. 21 U.S.C. 824(a)(1); 21 CFR 1301.43(e). The Agency further finds that the Government has established a prima facie case for material falsification, that Applicant did not rebut that prima facie case, and that there is clear, unequivocal, and convincing record evidence supporting the denial of Applicant's application. 21 U.S.C. 824(a)(1).

IV. Sanction

Where, as here, the Government has met the burden of showing that Applicant submitted a materially false application for registration, the burden shifts to Applicant to show why he can be trusted with a registration. Morall v. Drug Enf't Admin., 412 F.3d 165, 181 (D.C. Cir. 2005); Jones Total Health Care Pharmacy, LLC v. Drug Enf't Admin., 881 F.3d 823, 830 (11th Cir. 2018); Garrett Howard Smith, M.D., 83 FR 18882, 18904 (2018). The issue of trust is necessarily a fact-dependent determination based on the circumstances presented by the individual. Jeffrey Stein, M.D., 84 FR 46968, 46972 (2019); see also Jones Total Health Care Pharmacy, 881 F.3d at 833. Moreover, as past performance is the best predictor of future performance, the Agency requires that a registrant or applicant who has committed acts inconsistent with the public interest accept responsibility for those acts and demonstrate that he will not engage in future misconduct. See Jones Total Health Care Pharmacy, 881 F.3d at 833; ALRA Labs, Inc. v. Drug Enf't Admin., 54 F.3d 450, 452 (7th Cir. 1995). The Agency requires acceptance of responsibility to be unequivocal. Janet S. Pettyjohn, D.O., 89 FR 82639, 82641 (2024); Mohammed Asgar, M.D., 83 FR 29569, 29573 (2018); see also Jones Total Health Care Pharmacy, 881 F.3d at 830-31.

In addition, a registrant's or applicant's candor during the investigation is an important factor in determining acceptance of responsibility and the appropriate sanction. See Jones Total Health Care Pharmacy, 881 F.3d at 830-31; Hoxie, 419 F.3d at 483-84. Further, the Agency considers the egregiousness and extent of the misconduct as significant factors in determining the appropriate sanction. See Jones Total Health Care Pharmacy, 881 F.3d at 834 & n.4. The Agency also considers the need to deter similar acts by an applicant and by the community of registrants. Stein, 84 FR at 46972-73.

Here, Applicant did not timely request a hearing, or timely or properly answer the allegations, and was therefore deemed to be in default. 21 CFR 1301.43(c)(1), (e), (f)(1); RFAA, at 1-4. To date, Applicant has not filed a motion with the Office of the Administrator to excuse the default. 21 CFR 1301.43(c)(1). Applicant has thus failed to answer the allegations contained in the OSC and has not otherwise availed himself of the opportunity to refute the Government's case. As such, Applicant has not accepted responsibility for the proven violations, has made no representations regarding his future compliance with the CSA, and has not made any demonstration that he can be trusted with registration.

Moreover, the evidence presented by the Government shows that Applicant supplied DEA with materially false information in his application for registration, further demonstrating that Applicant cannot be trusted with the responsibilities of holding a controlled substances registration. Additionally, the material information Applicant failed to disclose reveals that he has engaged in a pattern of dishonesty over many years with multiple state jurisdictions. RFAAX 2, at 3-6. Similarly, Applicant is deemed to have admitted that he “lacked candor during the course of [the] investigation by the DEA.” Id. at 8. If the Agency were to issue a registration to Applicant under these circumstances, it would send a dangerous message that submitting truthful, accurate, and complete information to DEA is not essential for obtaining a registration. Accordingly, the Agency will order the denial of Applicant's application.

Order

Pursuant to 28 CFR 0.100(b) and the authority vested in me by 21 U.S.C. 823 and 824, I hereby deny the pending application for a DEA Certificate of Registration, No. W24074770C, submitted by Hil Rizvi, M.D., as well as any other pending application of Hil Rizvi, M.D., for additional registration in Utah. This Order is effective November 20, 2025.

Signing Authority

This document of the Drug Enforcement Administration was signed on October 9, 2025, by Administrator Terrance Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2025-19612 Filed 10-20-25; 8:45 am]

BILLING CODE 4410-09-P